ENVIRONMENTAL PROTECTION AGENCY

[EPA-HQ-OECA-2012-0646; FRL-9997-92-OMS]

Information Collection Request Submitted to OMB for Review and Approval; Comment Request; NSPS for Incinerators (Renewal)

AGENCY: Environmental Protection Agency (EPA).

ACTION: Notice.

SUMMARY: The Environmental Protection Agency (EPA) has submitted an information collection request (ICR), NSPS for Incinerators, (EPA ICR Number 1058.13, OMB Control Number 2060-0040), to the Office of Management and Budget (OMB) for review and approval in accordance with the Paperwork Reduction Act. This is a proposed extension of the ICR, which is currently approved through November 30, 2019. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 28, 2019.

ADDRESSES: Submit your comments, referencing Docket ID Number EPA-HQ-OECA-2012-0646, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Incinerators (40 CFR part 60, subpart E) apply to existing incinerators that charge more than 45 metric tons per day (50 tons per day) of solid waste, and that commenced either construction or modification after August 17, 1971. Solid waste is defined as refuse, more than 50 percent of which is municipal type waste consisting of a mixture of paper, wood, yard wastes, food wastes, plastics, leather, rubber, and other combustibles, and noncombustible materials such as glass and rock.

Owners and operators of existing incinerators that charge more than 45 metric tons per day (50 tons per day) of solid waste, and that commenced construction or modification after August 17, 1971 are required to comply with reporting and record keeping requirements for the General Provisions (40 CFR part 60, subpart A), as well as for the applicable standards in 40 CFR part 60, subpart E. This includes submitting initial notifications, performance tests and periodic reports and results, and maintaining records of the occurrence and duration of any startup, shutdown, or malfunction in the operation of an affected facility, or any period during which the monitoring system is inoperative. These reports are used by EPA to determine compliance with 40 CFR part 60, subpart E.

Form Numbers: None.

Respondents/affected entities: Existing incinerators that charge more than 45 metric tons per day (50 tons per day) of solid waste, and that commenced either construction or modification after August 17, 1971.

Respondent's obligation to respond: Mandatory (40 CFR part 60, subpart E).

Estimated number of respondents: 82 (total).

Frequency of response: Initially and occasionally.

Total estimated burden: 8,490 hours (per year). Burden is defined at 5 CFR 1320.3(b).

Total estimated cost: $796,000 (per year), which includes $247,000 in annualized capital/startup and/or operation & maintenance costs and labor costs.

Changes in the Estimates: There is no change in the labor hours in this ICR compared to the previous ICR. This is due to two considerations. First, the regulations have not changed over the past three years and are not anticipated to change over the next three years. Secondly, the growth rate for the industry is negative or non-existent. There is an increase in O&M costs in this ICR compared to the previous ICR. The annual O&M costs for the PM CMS have been increased to 2018 dollars using the CEPCI Equipment Cost Index.

Courtney Kerwin,
Director, Regulatory Support Division.

[FR Doc. 2019-20944 Filed 9-25-19; 8:45 am]

BILLING CODE 6560-50-P